DEPARTMENT OF HOUSING AND URBAN DEVELOPMENT

[Docket No. FR-5683-N-72]

30-Day Notice of Proposed Information Collection: Multifamily Housing Service Coordinator Program

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: September 20, 2013.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW., Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A. The Federal Register notice that solicited public comment on the information collection for a period of 60 days was published on November 15, 2012.

A. Overview of Information Collection

Title of Information Collection: Multifamily Housing Service Coordinator Program.

OMB Approval Number: 2502-0447.

Type of Request: Revision of a currently approved collection.

Form Number: SF 424, HUD 2993, HUD 2994-A, HUD-92456, HUD-50080-SCMF, SF 424, HUD-2880, SF-LLL, HUD-91186-1, HUD-91186-A, HUD 96010, SF-269-A.

Description of the need for the information and proposed use: SF-424, HUD-91186, and other related documents) to assess the need and proposed use of grant funds and owners' ability to administer those funds. 2. HUD staff will use requests for extensions (HUD-91186-A) to evaluate anticipated program costs and the continued need for the program. 3. The LOCCS Payment Voucher (HUD-50080-SCMF) is used to monitor release of grant funds to reimburse eligible program costs over the term of the grant. Grant recipients will similarly use this voucher to track and record their requests for payment reimbursement for grant-funded expenses. 4. The Department is revising the Semi-Annual Performance Report, HUD-92456. Changes include the following: A. Additional sources of funding; B. Modification of resident statistics and the numbers of project tenants and neighborhood residents served by the Service Coordinator during the reporting period; C. Adding hire date for the Service Coordinator and date of program inception; D. Adding number of contacts to number of residents that the Service Coordinator links to various supportive services; E. Providing a glossary of definitions of supportive service types; F. Modifying the section for reporting time allocation of monthly work responsibilities; G. Adding a new item to highlight community engagement; including meetings with community agencies and residents and Attendance at or planning of community events, and H. Adding a new section to track aging in place statistics. The semi-annual Performance Reports will be used to gauge program performance and effective use of Federal funds to meet stated program goals. The Department proposes the new changes to obtain more specific, accurate, and relevant data. To complete the form, Housing owners and Service Coordinators will develop and maintain meaningful data that reflect the efficacy of the Service Coordinator program. The Burden Hours per Response remains the same at six hours. (Previous requests had overstated the amount of time required to complete the report.) 5. The Department is proposing a new form to be used by field office staff to perform Service Coordinator program reviews. This proposed form is provided in this Notice to solicit comments from the public, even though the form is designed for use by HUD field office staff. The Department requires a consistent protocol to review and evaluate Service Coordinator programs. The use of this form will allow for consistent and thorough program assessment. It will also inform housing owners, management agents, and Service Coordinators about program requirements and expected performance. 6. SF-425, 7. HUD-96010.

Estimation of the total numbers of hours needed to prepare the information collection including number of respondents, frequency of response, and hours of response: The number of respondents is 10,290; the frequency of responses is quarterly, semi-annually, and annually, with a total of 22,070 total annual responses. The estimated time to prepare collection varies from 15 minutes to 40 hours, with a total of 74,800 annual burden hours.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: August 15, 2013.
Colette Pollard,
Department Reports Management Officer, Office of the Chief Information Officer.

[FR Doc. 2013-20295 Filed 8-20-13; 8:45 am]

BILLING CODE 4210-67-P